DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 10, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application for a permit to conduct certain activities with endangered species. This notice is provided pursuant to Section 10(c) of the Endangered Species Act of 1973, as amended (16 U.S.C. 1531 et seq.). Written data, comments, or requests for copies of this complete application should be submitted to the Director (address above).

PRT-117385

Applicant: St. Louis Zoo, St. Louis, MO.

The applicant requests a permit to import two captive-born horned guans (Oreophasis derbianus) from the Africam Safari, Puebla, Mexico for the purpose of enhancement of the species through captive breeding and conservation education.

Marine Mammals

The public is invited to comment on the following application for a permit to conduct certain activities with marine mammals. The application was submitted to satisfy requirements of the Marine Mammal Protection Act of 1972, as amended (16 U.S.C. 1361 et seq.), and the regulations governing marine mammals (50 CFR Part 18). Written data, comments, or requests for copies of the complete application or requests for a public hearing on this application should be submitted to the Director (address above). Anyone requesting a hearing should give specific reasons why a hearing would be appropriate. The holding of such a hearing is at the discretion of the Director.

PRT-119904

Applicant: The Alaska Zoo, Anchorage, AK.

The applicant requests a permit to import one male captive-born polar bear (Ursus maritimus) from Sea World of Australia, Gold Coast, Australia for the purpose of public display.

Concurrent with the publication of this notice in the Federal Register, the Division of Management Authority is forwarding copies of the above applications to the Marine Mammal Commission and the Committee of Scientific Advisors for their review.

Dated: February 24, 2006.
Michael S. Moore,
Senior Permit Biologist, Branch of Permits, Division of Management Authority.

1

[FR Doc. E6-3322 Filed 3-8-06; 8:45 am]

BILLING CODE 4310-55-P